DEPARTMENT OF HOUSING AND URBAN DEVELOPMENT

[Docket No. FR-FR-4561-N-02]

Submission for OMB; Review of Currently Available Lead-Based Paint Encapsulants and Use Patterns in the Control of Residential Lead-Based Paint Hazards

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: March 15, 2000.

ADDRESSES: Interested persons are invited to submit comments regarding this proposal. Comments must be received within thirty (30) days from the date of this Notice. Comments should refer to the proposal by name and/or OMB approval number should be sent to: Joseph F. Lackey, Jr., HUD Desk Officer, Office of Management and Budget, Room 10235, New Executive Office Building, Washington, DC 20503.

FOR FURTHER INFORMATION CONTACT: Wayne Eddins, Reports Management Officer, Department of Housing and Urban Development, 451 7th Street, SW, Washington, DC 20410, e-mail Wayne_Eddins@HUD.gov; telephone (202) 708-2374. This is not a toll-free number. Copies of the proposal forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) The office of the agency to collect the information; (3) The OMB approval number, if applicable; (4) The description of the need for the information and its proposed use; (5) the agency form number, if applicable; (6) what members of the public will be affected by the proposal; (7) how frequently information submissions will be required; (8) an estimate of the total number of hours needed to prepare the information submission including number of respondents, frequently of response, and hours of response; (9) whether the proposal is new, an extension, reinstatement, or revision of an information collection requirement; and (10) the names and telephone numbers of an agency official familiar with the proposal and of the OMB Desk Officer for the Department.

This Notice also lists the following information:

Title of Proposal: A review of currently available lead-based paint encapsulants and use patterns in the control of residential lead-based paint hazards.

OMB Control Number: 2539-XXXX.

Description of the Need for the Information and its Proposed Use: Lead-based paint encapsulants are resistant coatings that can be applied to lead-based paint to prevent becoming a lead poisoning hazard. This purposed of this study is to identify current encapsulant products and to review the extent to which encapsulants are being used for residential lead hazard control. Encapsulant manufacturers, users, and lead hazard control professions will be surveyed.

Form Number: None.

Respondents: Individuals or households.

Frequency of Submission: On occasion.

Reporting Burden:

| Number of respondents | × | Frequency of response | × | Hours per response | = | Burden hours
Information Collection | 114 |  | 0 |  | 0.5 |  | 57

Total Estimated Burden Hours: 57.

Status: New.

Authority: The Paperwork Reduction Act of 1995, 44 U.S.C. 35, as amended.

Dated: February 8, 2000.
Donna Eden,
Director, Investment Strategies, Policy Management, Office of the Chief Information Officer.

[FR Doc. 00-3296 Filed 2-11-00; 8:45 am]

BILLING CODE 4210-01-M